DEPARTMENT OF COMMERCE

International Trade Administration

[C-570-165, C-552-840]

Certain Paper Plates From the People's Republic of China and the Socialist Republic of Vietnam: Countervailing Duty Orders

AGENCY: Enforcement and Compliance, International Trade Administration, Department of Commerce.

SUMMARY: Based on affirmative final determinations by the U.S. Department of Commerce (Commerce) and the U.S. International Trade Commission (ITC), Commerce is issuing countervailing duty (CVD) orders on certain paper plates (paper plates) from the People's Republic of China (China) and the Socialist Republic of Vietnam (Vietnam).

DATES: Applicable March 20, 2025.

FOR FURTHER INFORMATION CONTACT: Mary Kolberg (Vietnam) and Sun Cho (China), AD/CVD Operations, Offices I and V, Enforcement and Compliance, International Trade Administration, U.S. Department of Commerce, 1401 Constitution Avenue NW, Washington, DC 20230; telephone: (202) 482-1785 and (202) 482-6458, respectively.

SUPPLEMENTARY INFORMATION:

Background

On January 28, 2025, Commerce published in the Federal Register its affirmative final determinations in the CVD investigations of paper plates from China and Vietnam.¹ On March 13, 2025, the ITC notified Commerce of its final determinations, pursuant to section 705(d) of the Tariff Act of 1930, as amended (the Act), that an industry in the United States is materially injured within the meaning of section 705(b)(1)(A)(i) of the Act by reason of imports of paper plates from China and Vietnam.²

¹ See Certain Paper Plates from the People's Republic of China: Final Affirmative Countervailing Duty Determination and Final Affirmative Determination of Critical Circumstances, in Part, 90 FR 8281 (January 28, 2025); and Certain Paper Plates from the Socialist Republic of Vietnam: Final Affirmative Countervailing Duty Determination and Final Affirmative Determination of Critical Circumstances, in Part, 90 FR 8258 (January 28, 2025) (collectively, Final Determinations).

² See ITC's Letter, “Investigation Nos. 701-TA-704-705 and 731-TA-1664-1666 (Final),” dated March 13, 2025.

Countervailing Duty Orders

Based on the above-referenced affirmative final determinations by the ITC that an industry in the United States is materially injured by reason of subsidized imports of paper plates from China and Vietnam, in accordance with section 705(c)(2) of the Act, Commerce is issuing these CVD orders. Because the ITC determined that imports of paper plates from China and Vietnam are materially injuring a U.S. industry, unliquidated entries of such merchandise entered or withdrawn from warehouse for consumption, are subject to the assessment of countervailing duties.

In addition, the ITC found that critical circumstances exist with respect to imports from China subject to Commerce's affirmative critical circumstances finding within the meaning of section 705(b)(4)(A) of the Act. As a result of Commerce's affirmative critical circumstances determination under section 705(a)(2) of the Act, and the ITC's affirmative critical circumstances determination under section 705(b)(4)(A) of the Act, retroactive duties will be applied to the relevant imports for a period of 90 days prior to the suspension of liquidation (i.e., 90 days prior to the date of publication of the affirmative China Preliminary Determination).³ The ITC found that critical circumstances did not exist with respect to Vietnam.

³ See section 705(c)(4) of the Act; see also SAA at 876 (“If both agencies make affirmative critical circumstances determinations in their final investigations, retroactive duties will be applied for a period ninety days prior to suspension of liquidation.”).

Therefore, in accordance with section 706(a) of the Act, Commerce will direct CBP to assess, upon further instruction by Commerce, countervailing duties on all relevant entries of paper plates from China and Vietnam. Countervailing duties will be assessed on unliquidated entries of paper plates from China entered, or withdrawn from warehouse, for consumption, on or after April 2, 2024, which is 90 days prior to the date of publication of the China Preliminary Determination.⁴ Countervailing duties will be assessed on unliquidated entries of paper plates from Vietnam entered, or withdrawn from warehouse, for consumption, on or after July 1, 2024, which is the date of publication of the Vietnam Preliminary Determination.⁵ Countervailing duties will not be assessed on entries occurring after the expiration of the provisional measures period and before the publication of the ITC's final affirmative injury determination, as further described in the “Provisional Measures” section of this notice. With respect to the ITC's negative critical circumstances determination on imports of paper plates from Vietnam, Commerce will instruct CBP to lift suspension and to refund any cash deposits made to secure the payment of estimated countervailing duties with respect to entries of the subject merchandise from Vietnam entered, or withdrawn from warehouse, for consumption on or after April 2, 2024 (i.e., 90 days prior to the date of the publication of the Vietnam Preliminary Determination), but before July 1, 2024 (i.e., the date of publication of Vietnam Preliminary Determination).⁶

⁴ See Certain Paper Plates from the People's Republic of China: Preliminary Affirmative Countervailing Duty Determination, Preliminary Affirmative Determination of Critical Circumstances, in Part, and Alignment of Final Determination With Final Antidumping Duty Determination, 89 FR 54432 (July 1, 2024) (China Preliminary Determination); and Certain Paper Plates From the Socialist Republic of Vietnam: Preliminary Affirmative Countervailing Duty Determination, Preliminary Affirmative Determination of Critical Circumstances, in Part, and Alignment of Final Determination With Antidumping Duty Determination, 89 FR 54429 (July 1, 2024) (Vietnam Preliminary Determination) (collectively, Preliminary Determinations).

⁵ Id.

⁶ Id.

Continuation of Suspension of Liquidation and Cash Deposits

In accordance with section 706 of the Act, Commerce intends to instruct CBP to reinstitute the suspension of liquidation of paper plates from China and Vietnam, effective on the date of publication of the ITC's final affirmative injury determination in the Federal Register, and to assess, upon further instruction by Commerce, pursuant to section 706(a)(1) of the Act, countervailing duties on each entry of subject merchandise in an amount based on the net countervailable subsidy rates below. These instructions suspending liquidation will remain in effect until further notice.

Commerce also intends, pursuant to section 706(a)(1) of the Act, to instruct CBP to require cash deposits equal to the amounts as indicated below. Accordingly, effective on the date of publication of the ITC's final affirmative injury determination in the Federal Register, CBP will require, at the same time as importers would normally deposit estimated customs duties on the subject merchandise, a cash deposit for each entry of subject merchandise equal to the subsidy rates listed below.⁷ The all-others rates apply to all producers or exporters not specifically listed below, as appropriate.

⁷ See section 706(a)(3) of the Act.

Scope of the Orders

The products covered by these orders are paper plates from China and Vietnam. For a complete description of the scope of these orders, see the appendix to this notice.

Estimated Countervailing Duty Subsidy Rates

The estimated CVD subsidy rates are as follows:

China:

Company | Subsidy rate (percent ad valorem)
Fuzhou Hengli Paper Co., Ltd | 11.38
Jinhua P&P Product Co., Ltd | 4.47
Ningbo Artcool Co., Ltd | * 295.08
Ningbo Fenghua Yongfa Printing Stationery Co., Ltd | * 295.08
Zhejiang Kingsun Eco-Pack Co., Ltd | * 295.08
Zhejiang Lingrong Crafts Co., Ltd | * 295.08
All Others | 10.61
* Rate based on facts available with adverse inferences.

Vietnam:

Company | Subsidy rate (percent ad valorem)
Go-Pak Paper Products Vietnam Co., Ltd | 5.53
Innovative Sonic Vietnam International | * 225.90
Ningbo Changya Plastic Vietnam Company | * 225.90
Ningbo Changya Plastic Vietnam | * 225.90
SCG Vietnam | * 225.90
Xie Li | * 225.90
All Others | 5.53
* Rate based on facts available with adverse inferences.

Provisional Measures

Section 703(d) of the Act states that the suspension of liquidation pursuant to an affirmative preliminary determination may not remain in effect for more than four months. In the underlying investigations, Commerce published the Preliminary Determinations on July 1, 2024.⁸ Therefore, entries of paper plates from China and Vietnam made on or after October 29, 2024, and prior to the date of publication of the ITC's final determinations in the Federal Register, are not subject to the assessment of countervailing duties due to Commerce's discontinuation of the suspension of liquidation.

⁸ See Preliminary Determinations.

In accordance with section 703(d) of the Act, Commerce instructed CBP to terminate the suspension of liquidation and to liquidate, without regard to countervailing duties, unliquidated entries of paper plates from China and Vietnam entered, or withdrawn from warehouse, for consumption on or after October 29, 2024, the date on which the provisional CVD measures expired, through the day preceding the date of publication of the ITC final injury determinations in the Federal Register. Suspension of liquidation will resume on the date of publication of the ITC final injury determinations in the Federal Register.

Establishment of the Annual Inquiry Service Lists

On September 20, 2021, Commerce published the final rule titled “Regulations to Improve Administration and Enforcement of Antidumping and Countervailing Duty Laws” in the Federal Register.⁹ On September 27, 2021, Commerce also published the notice titled “Scope Ruling Application; Annual Inquiry Service List; and Informational Sessions” in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹¹

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

¹¹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹³ Accordingly, as stated above, the petitioners and foreign governments should submit their initial entry of appearance after publication of this notice in order to appear in the first annual inquiry service list for those orders for which they qualify as an interested party. Pursuant to 19 CFR 351.225(n)(3), the petitioners and foreign governments will not need to resubmit their entry of appearance each year to continue to be included on the annual inquiry service list. However, the petitioners and foreign governments are responsible for making amendments to their entries of appearance during the annual update to the annual inquiry service list in accordance with the procedures described above.

¹³ See Final Rule, 86 FR at 52335.

Notification to Interested Parties

This notice constitutes the CVD orders with respect to paper plates from China and Vietnam pursuant to section 736(a) of the Act. Interested parties can find a list of CVD orders currently in effect at https://www.trade.gov/data-visualization/adcvd-proceedings.

These CVD orders are published in accordance with section 706(a) of the Act and 19 CFR 351.211(b).

Dated: March 14, 2025.
Christopher Abbott,
Deputy Assistant Secretary for Policy and Negotiations, performing the non-exclusive functions and duties of the Assistant Secretary for Enforcement and Compliance.

Appendix

Scope of the Orders

The merchandise subject to these orders is certain paper plates. Paper plates subject to these orders may be cut from rolls, sheets, or other pieces of paper and/or paper board. Paper plates subject to these orders have a depth up to and including two (2.0) inches, as measured vertically from the base to the top of the lip, or the edge if the plate has no lip. Paper plates subject to these orders may be uncolored, white, colored, or printed. Printed paper plates subject to these orders may have any type of surface finish, and may be printed by any means with images, text and/or colors on one or both surfaces. Colored paper plates subject to these orders may be colored by any method, including but not limited to printing, beater-dyeing, and dip-dyeing. Paper plates covered by these orders may be produced from paper of any type (including, but not limited to, bamboo, straws, bagasse, hemp, kenaf, jute, sisal, abaca, cotton inters and reeds, or from non-plant sources, such as synthetic resin (petroleum)-based resins), may have any caliper or basis weight, may have any shape or size, may have one or more than one section, may be embossed, may have foil or other substances adhered to their surface, and/or may be uncoated or coated with any type of coating.

The paper plates covered by these orders remain covered by the scope of these orders whether imported alone, or in any combination of subject and non-subject merchandise. When paper plates covered by these orders are imported in combination with non-subject merchandise, only the paper plates covered by these orders are subject merchandise.

The paper plates covered by these orders include paper plates matching the above description that have been finished, packaged, or otherwise processed in a third country by performing finishing, packaging, or processing that would not otherwise remove the merchandise from the scope of the orders if performed in the country of manufacture of the paper plates. Examples of finishing, packaging, or other processing in a third country that would not otherwise remove the merchandise from the scope of the orders if performed in the country of manufacture of the paper plates include, but are not limited to, printing, application of other surface treatments such as coatings, repackaging, embossing, and application of foil surface treatments.

Excluded from the scope of these orders are paper plates molded or pressed directly from paper pulp (including but not limited to unfelted pulp), which are currently classifiable under subheading 4823.70.0020 of the Harmonized Tariff Schedule of the United States (HTSUS).

Also excluded from the scope of these orders are articles that otherwise would be covered but which exhibit the following two physical characteristics: (a) depth (measured vertically from the base to the top of the lip, or edge if no lip) equal to or greater than 1.25 inches but less than two (2.0) inches, and (b) a base not exceeding five (5.0) inches in diameter if round, or not exceeding 20 square inches in area if any other shape.

Also excluded from the scope of these orders are paper bowls, paper buckets, and paper food containers with closeable lids.

Paper plates covered by these orders are currently classifiable under HTSUS subheading 4823.69.0040. Paper plates covered by these orders also may be classified under HTSUS subheading 4823.61.0040. If packaged with other articles, the paper plates covered by these orders also may be classified under HTSUS subheadings 9505.90.4000 and 9505.90.6000. While the HTSUS subheading(s) are provided for convenience and customs purposes, the written description of the subject merchandise is dispositive.

[FR Doc. 2025-04765 Filed 3-19-25; 8:45 am]

BILLING CODE 3510-DS-P